SECURITIES AND EXCHANGE COMMISSION

[File No. 500-1]

In Sino Silver Corp.; Order of Suspension of Trading

May 17, 2005.

It appears to the Securities and Exchange Commission that the public interest and the protection of investors require a suspension of trading in the securities of Sino Silver Corp. (“Sino”), trading under the stock symbol SSLV on the Over-the-Counter Bulletin Board (“OTCBB”). The Commission has concerns about the accuracy and completeness of information about Sino contained in press releases and public filings with the Commission relating to a change in control over Sino. In addition, the Commission is concerned that Sino, its affiliates, and others may be engaged in the unlawful distribution of restricted Sino securities through the OTCBB.

The Commission is of the opinion that the public interest and the protection of investors require a suspension of trading in the securities of the above listed company.

Therefore, it is ordered, pursuant to Section 12(k) of the Securities Exchange Act of 1934, that trading in the above listed company is suspended for the period from 9:30 a.m. EST, May 17, 2005 through 11:59 p.m. EST, on May 31, 2005.

By the Commission.
Jonathan G. Katz,
Secretary.

[FR Doc. 05-10091 Filed 5-17-05; 11:39 am]

BILLING CODE 8010-01-P